DEPARTMENT OF ENERGY

Federal Energy Regulatory Commission

Combined Notice of Filings #1

Take notice that the Commission received the following electric corporate filings:

Docket Numbers: EC21-108-000.

Applicants: Cypress Creek Holdings, LLC, Catalyst Acquisition Co, Inc.

Description: Application for Authorization Under Section 203 of the Federal Power Act of Cypress Creek Holdings, LLC.

Filed Date: 7/27/21.

Accession Number: 20210727-5174.

Comments Due: 5 p.m. ET 8/17/21.

Take notice that the Commission received the following electric rate filings:

Docket Numbers: ER21-1790-004.

Applicants: California Independent System Operator Corporation.

Description: Compliance filing: 2021-07-28 Load, Exports & Wheeling Time Waiver Ext to be effective N/A.

Filed Date: 7/28/21.

Accession Number: 20210728-5129.

Comments Due: 5 p.m. ET 8/18/21.

Docket Numbers: ER21-2531-000.

Applicants: Southern Company Services, Inc.

Description: Request for Limited Waiver of Southern Companies.

Filed Date: 7/27/21.

Accession Number: 20210727-5167.

Comments Due: 5 p.m. ET 8/17/21.

Docket Numbers: ER21-2532-000.

Applicants: Bay Tree Solar, LLC.

Description: Baseline eTariff Filing: Bay Tree Solar, LLC—Application for Market-Based Rate Authority to be effective 9/13/2021.

Filed Date: 7/28/21.

Accession Number: 20210728-5040.

Comments Due: 5 p.m. ET 8/18/21.

Docket Numbers: ER21-2533-000.

Applicants: Bay Tree Lessee, LLC.

Description: Baseline eTariff Filing: Bay Tree Lessee, LLC—Application for Market-Based Rate Authority to be effective 9/13/2021.

Filed Date: 7/28/21.

Accession Number: 20210728-5042.

Comments Due: 5 p.m. ET 8/18/21.

Docket Numbers: ER21-2534-000.

Applicants: New York State Electric & Gas Corporation, New York Independent System Operator, Inc.

Description: § 205(d) Rate Filing: Joint 205 TPIA among NYISO, NYSEG, NextEra for Empire State Line SA2634, CEII to be effective 7/14/2021.

Filed Date: 7/28/21.

Accession Number: 20210728-5053.

Comments Due: 5 p.m. ET 8/18/21.

Docket Numbers: ER21-2535-000.

Applicants: Dichotomy Power Maine, LLC.

Description: Baseline eTariff Filing: Application For Market Based Rate Authority to be effective 12/31/9998.

Filed Date: 7/28/21.

Accession Number: 20210728-5093.

Comments Due: 5 p.m. ET 8/18/21.

Docket Numbers: ER21-2536-000.

Applicants: Public Service Company of Colorado.

Description: § 205(d) Rate Filing: 2021-07-28 Gen Rplcmnt Coord Agrmt to be effective 9/27/2021.

Filed Date: 7/28/21.

Accession Number: 20210728-5107.

Comments Due: 5 p.m. ET 8/18/21.

Docket Numbers: ER21-2537-000.

Applicants: California Independent System Operator Corporation.

Description: § 205(d) Rate Filing: 2021-07-28 First Amendment to ABAOA—BANC to be effective 9/27/2021.

Filed Date: 7/28/21.

Accession Number: 20210728-5124.

Comments Due: 5 p.m. ET 8/18/21.

Docket Numbers: ER21-2538-000.

Applicants: Minonk Stewardship Wind LLC.

Description: Baseline eTariff Filing: Application For Market Based Rate Authority to be effective 9/14/2021.

Filed Date: 7/28/21.

Accession Number: 20210728-5125.

Comments Due: 5 p.m. ET 8/18/21.

Docket Numbers: ER21-2539-000.

Applicants: Tri-State Generation and Transmission Association, Inc.

Description: § 205(d) Rate Filing: Service Agreement No. 895 to be effective 7/28/2021.

Filed Date: 7/28/21.

Accession Number: 20210728-5139.

Comments Due: 5 p.m. ET 8/18/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 28, 2021.
Debbie-Anne A. Reese,
Deputy Secretary.

[FR Doc. 2021-16525 Filed 8-2-21; 8:45 am]

BILLING CODE 6717-01-P